DEPARTMENT OF COMMERCE

International Trade Administration

[C-570-976]

Galvanized Steel Wire From the People's Republic of China: Postponement of Preliminary Determination in the Countervailing Duty Investigation

AGENCY: Import Administration, International Trade Administration, Department of Commerce.

FOR FURTHER INFORMATION CONTACT: David Lindgren or Nicholas Czajkowski, AD/CVD Operations, Office 6, Import Administration, International Trade Administration, U.S. Department of Commerce, 14th Street and Constitution Avenue, NW., Washington, DC 20230; telephone: (202) 482-3870 and (202) 482-1395, respectively.

SUPPLEMENTARY INFORMATION:

Background

On April 20, 2011, the Department of Commerce (the Department) initiated the countervailing duty investigation of galvanized steel wire from the People's Republic of China. See Galvanized Steel Wire From the People's Republic of China: Initiation of Countervailing Duty Investigation, 76 FR 23564 (April 27, 2011). Currently, the preliminary determination is due no later than June 24, 2011.

Postponement of Due Date for the Preliminary Determination

Section 703(b)(1) of the Tariff Act of 1930, as amended (the Act), requires the Department to issue the preliminary determination in a countervailing duty investigation within 65 days after the date on which the Department initiated the investigation. However, the Department may postpone making the preliminary determination until no later than 130 days after the date on which the administering authority initiated the investigation if, among other reasons, the petitioner makes a timely request for an extension pursuant to section 703(c)(1)(A) of the Act. In the instant investigation, Davis Wire Corporation, Johnstown Wire Technologies, Inc., Mid-South Wire Company, Inc., National Standard, LLC, and Oklahoma Steel & Wire Company, Inc. (collectively, Petitioners), made a timely request on May 25, 2011, requesting a postponement of the preliminary countervailing duty determination to 130 days from the initiation date. See 19 CFR 351.205(b)(2), 19 CFR 351.205(e) and the Petitioners' May 25, 2011, letter requesting postponement of the preliminary determination, which is available in the Central Records Unit, Room 7046 in the Department's main building.

The Department finds no compelling reason to deny the request. Therefore, pursuant to section 703(c)(1)(A) of the Act, we are extending the due date for the preliminary determination to no later than 130 days after the date on which this investigation was initiated, i.e., to August 28, 2011. However, August 28, 2011, falls on a Sunday. It is the Department's long-standing practice to make a determination on the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the Department will make its preliminary determination on August 29, 2011, the first business day after August 28, 2011.

This notice is issued and published pursuant to section 703(c)(2) of the Act and 19 CFR 351.205(f)(l).

Dated: May 31, 2011.
Ronald K. Lorentzen,
Deputy Assistant Secretary for Import Administration.

[FR Doc. 2011-14028 Filed 6-7-11; 8:45 am]

BILLING CODE 3510-DS-P